INTERNATIONAL TRADE COMMISSION

[Investigation No. 731-TA-718 (Fourth Review)]

Glycine From China; Determination

On the basis of the record ¹ developed in the subject five-year review, the United States International Trade Commission (“Commission”) determines, pursuant to the Tariff Act of 1930 (“the Act”), that revocation of the antidumping duty order on glycine from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on August 1, 2016 (81 FR 50547) and determined on November 4, 2016 that it would conduct an expedited review (81 FR 87589, December 5, 2016).

The Commission made this determination pursuant to section 751(c) of the Act (19 U.S.C. 1675(c)). It completed and filed its determination in this review on January 31, 2017. The views of the Commission are contained in USITC Publication 4667 (January 2017), entitled Glycine From China: Investigation No. 731-TA-718 (Fourth Review).

By order of the Commission.
Issued: January 31, 2017.
Katherine M. Hiner,
Acting Supervisory Attorney.

[FR Doc. 2017-02340 Filed 2-2-17; 8:45 am]

BILLING CODE 7020-02-P